ENVIRONMENTAL PROTECTION AGENCY

[EPA-HQ-OAR-2022-0057; FRL-10834-01-OMS]

Agency Information Collection Activities; Submission to the Office of Management and Budget for Review and Approval; Comment Request; NSPS for Steel Plants: Electric Arc Furnaces and Argon Oxygen Decarburization Vessels (Renewal)

AGENCY: Environmental Protection Agency (EPA).

ACTION: Notice.

SUMMARY: The Environmental Protection Agency (EPA) has submitted an information collection request (ICR), NSPS for Steel Plants: Electric Arc Furnaces and Argon Oxygen Decarburization Vessels (EPA ICR Number 1060.20, OMB Control Number 2060-0038), to the Office of Management and Budget (OMB) for review and approval in accordance with the Paperwork Reduction Act. This is a proposed extension of the ICR, which is currently approved through March 31, 2023. Public comments were previously requested via the Federal Register on April 8, 2022 during a 60-day comment period. This notice allows for an additional 30 days for public comments.

DATES: Comments may be submitted on or before April 24, 2023.

ADDRESSES: Submit your comments, referencing Docket ID Number EPA-HQ-OAR-2022-0057, to EPA online using https://www.regulations.gov/ (our preferred method), or by email to docket@epa.gov, or by mail to: EPA Docket Center, Environmental Protection Agency, Mail Code 28221T, 1200 Pennsylvania Ave. NW, Washington, DC 20460. EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through March 31, 2023. An Agency may neither conduct nor sponsor, and a person is not required to respond to, a collection of information unless it displays a currently valid OMB control number.

Public comments were previously requested via the Federal Register (87 FR 20847) on April 8, 2022 during a 60-day comment period. This notice allows for an additional 30 days for public comments. Supporting documents which explain in detail the information that the EPA will be collecting are available in the public docket for this ICR. The docket can be viewed online at https://www.regulations.gov or in person at the EPA Docket Center, WJC West Building, Room 3334, 1301 Constitution Ave. NW, Washington, DC. The telephone number for the Docket Center is 202-566-1744. For additional information about EPA's public docket, visit: http://www.epa.gov/dockets.

Abstract: The New Source Performance Standards (NSPS) for Steel Plants: Electric Arc Furnaces and Argon Oxygen Decarburization Vessels (40 CFR part 60, subpart AA) were proposed on October 21, 1974, promulgated on September 23, 1975, and most-recently amended on February 22, 2005. These regulations apply to electric arc furnaces and dust-handling systems that commenced construction, modification, or reconstruction either after October 21, 1974 or on/or before August 17, 1983 at steel plants that produce carbon, alloy, or specialty steels. In addition, the New Source Performance Standards (NSPS) for these regulations (40 CFR part 60, subpart AAa) were proposed on August 17, 1983, promulgated on October 31, 1984, and most recently-amended on February 22, 2005. These latter regulations apply to electric arc furnaces, argon-oxygen decarburization vessels, and dust-handling systems that commenced construction, modification, or reconstruction after August 17, 1983 at steel plants that produce carbon, alloy, or specialty steels. New facilities include those that commenced construction, modification or reconstruction after the date of proposal. This information is being collected to assure compliance with 40 CFR part 60, subparts AA and AAa. EPA proposed revisions to Subparts AA and AAa and proposed a new Subpart AAb on May 16, 2022 (87 FR 29710). The burden for these requirements is not included in this renewal and will be accounted for once the rule is finalized. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form numbers: None.

Respondents/affected entities: Steel plants that produce carbon, alloy, or specialty steels.

Respondent's obligation to respond: Mandatory (40 CFR part 60, subparts AA and AAa).

Estimated number of respondents: 90 (total).

Frequency of response: Initially, semiannually.

Total estimated burden: 56,700 hours (per year). Burden is defined at 5 CFR 1320.3(b).

Total estimated cost: $7,000,000 (per year), which includes $198,000 in annualized capital/startup and/or operation & maintenance costs.

Changes in the estimates: There is an adjustment decrease in the total estimated burden as currently identified in the OMB Inventory of Approved Burdens. This decrease is not due to any program changes. The change in the burden and cost estimates is due to a decrease in the average number of respondents per year subject to subparts AA and AAa based on information gathered by EPA for a proposed rulemaking. Although there was a decrease in the average number of respondents per year, there was an increase in the number of new sources each year. This resulted in an adjustment increase to the total capital/startup cost. There is an adjustment decrease in the operation and maintenance (O&M) costs as calculated in section 6(b)(iii) compared with the costs in the previous ICR due to the decreased number of respondents based on more recent information provided by EPA.

Courtney Kerwin,
Director, Regulatory Support Division.

[FR Doc. 2023-06049 Filed 3-23-23; 8:45 am]

BILLING CODE 6560-50-P